DEPARTMENT OF ENERGY

Federal Energy Regulatory Commission

[Project No. 13843-001]

Qualified Hydro 24, LLC; Notice of Intent To File License Application, Filing of Pre-Application Document, Denying Use of the Traditional Licensing Process, Commencement of Licensing Proceeding, Scoping, and Solicitation of Study Requests and Comments on the Pad

a. Type of Filing: Notice of Request to Use the Traditional Licensing Process.

b. Project No.: 13843-001.

c. Dated Filed: January 3, 2012.

d. Submitted By: Qualified Hydro 24, LLC (Qualified Hydro 24).

e. Name of Project: Cle Elum Dam Hydroelectric Project.

f. Location: On the Cle Elum River, in Kittitas County, Washington. A portion of the project occupies United States lands administered by U.S. Forest Service.

g. Filed Pursuant to: 18 CFR 5.3 of the Commission's regulations.

h. Potential Applicant Contact: Ramya Swaminathan, Qualified Hydro 24, LLC, 239 Causeway Street, Suite 300, Boston, MA 02114; (978) 283-2822.

i. FERC Contact: James Hastreiter at (503) 552-2760; or email at james.hastreiter@ferc.gov.

j. Qualified Hydro 24 filed its request to use the Traditional Licensing Process on January 3, 2012. Qualified Hydro 24 provided public notice of its request on January 27, 2012. Qualified Hydro 24's request to use the Traditional Licensing Process was denied by letter dated March 15, 2012.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Washington State Historic Preservation Officer, as required by section 106, National Historical Preservation Act, and the implementing regulations of the Advisory Council on Historic Preservation at 36 CFR 800.2.

l. With this notice, we are designating Qualified Hydro 24 as the Commission's non-federal representative for carrying out informal consultation, pursuant to section 7 of the Endangered Species Act, section 305 of the Magnuson-Stevens Fishery Conservation and Management Act, and section 106 of the National Historic Preservation Act.

m. Qualified Hydro 24 filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://www.ferc.gov/docs-filing/esubscription.asp to be notified via email of new filing and issuances related to this or other pending projects. For assistance, contact FERC Online Support.

Dated: March 15, 2012.
Kimberly D. Bose,
Secretary.

[FR Doc. 2012-7151 Filed 3-23-12; 8:45 am]

BILLING CODE 6717-01-P